ENVIRONMENTAL PROTECTION AGENCY

40 CFR Part 52

[EPA-R03-OAR-2005-0549; FRL-8224-9]

Approval and Promulgation of Air Quality Implementation Plans; Pennsylvania; Additional NOX Emission Reductions To Support the Philadelphia-Trenton-Wilmington One-Hour Ozone Nonattainment Area, and Remaining NOX SIP Call Requirements

AGENCY: Environmental Protection Agency (EPA).

ACTION: Final rule.

SUMMARY: EPA is approving State Implementation Plan (SIP) revisions submitted by the Commonwealth of Pennsylvania. These revisions pertain to nitrogen oxides (NOX) reductions that are required for the Commonwealth to support its approved attainment demonstration for the Philadelphia-Trenton-Wilmington one-hour ozone nonattainment area (the Philadelphia Area); NOX reductions from stationary internal combustion (IC) engines to meet the NOX SIP Call Phase II (Phase II); and NOX reductions from cement kilns to meet the NOX SIP Call. The revisions also include provisions for emission credits for sources that generate zero-emission renewable energy. The intended effect of this action is to approve these revisions into the Pennsylvania SIP. This action is being taken under the Clean Air Act (CAA or the Act).

Effective Date: This final rule is effective on October 30, 2006.

ADDRESSES: EPA has established a docket for this action under Docket ID Number EPA-R03-OAR-2005-0549. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Pennsylvania Department of Environmental Resources Bureau of Air Quality Control, P.O. Box 8468, 400 Market Street, Harrisburg, Pennsylvania 17105.

FOR FURTHER INFORMATION CONTACT: Marilyn Powers, (215) 814-2308, or by e-mail at powers.marilyn@epa.gov.

SUPPLEMENTARY INFORMATION:

I. Background

On July 14, 2006 (71 FR 40048), EPA published a notice of proposed rulemaking (NPR) for the Commonwealth of Pennsylvania. The NPR proposed approval of SIP revisions submitted by the Commonwealth on March 29, 2005, with a supplemental submittal on February 6, 2006.

II. Summary of SIP Revision

The SIP revisions establish ozone season NOX emission limits for certain existing and new boilers, turbines, and stationary internal combustion engines that are small sources of NOX located in the Pennsylvania portion of the Philadelphia Area. This revision also establishes ozone season NOX emission limits for large stationary internal combustion engines and Portland cement kilns throughout the State. Other specific requirements of the SIP revisions and the rationale for EPA's proposed action are explained in the NPR and will not be restated here. No public comments were received on the NPR.

III. Final Action

EPA is approving the SIP revisions submitted by the Commonwealth of Pennsylvania on March 29, 2005, with a supplemental submission on February 6, 2006. The revisions support the State's attainment demonstration for the Philadelphia Area SIP and satisfy its remaining obligations under the NOX SIP Call.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by November 28, 2006. Filing a petition for reconsideration by the Administrator of this final rule does not affect the finality of this rule for the purposes of judicial review nor does it extend the time within which a petition for judicial review may be filed, and shall not postpone the effectiveness of such rule or action.

This action to approve ozone season NOX emission limits for small sources of NOX in the Philadelphia Area and for large stationary internal combustion engines and Portland cement kilns throughout the State may not be challenged later in proceedings to enforce its requirements. (See section 307(b)(2).)

List of Subjects in 40 CFR Part 52

Environmental protection, Air pollution control, Nitrogen dioxide, Ozone, Reporting and recordkeeping requirements.

Dated: September 20, 2006.
Donald S. Welsh,
Regional Administrator, Region III.

40 CFR part 52 is amended as follows:

PART 52—[AMENDED]

1. The authority citation for part 52 continues to read as follows:

Authority: 42 U.S.C. 7401 et seq.

Subpart NN—Pennsylvania

2. In § 52.2020, the table in paragraph (c)(1) is amended by revising entries for Title 25, Chapter121, Section 1 and Chapter 145, Section 42; and by adding a new heading and entries for Chapter 129, Sections 201 through 205, a new heading and entries for Chapter 145, Sections 111 through 113, and a new heading and entries for Chapter 145, Sections 141 through 143. The amendments read as follows:

§ 52.2020 Identification of plan.

* * * * *

(c) * * *

(1) * * *

State citation | Title/subject | State effective date | EPA approval date | Additional explanation/§ 52.2063 citation
Title 25. Environmental Protection
Article Iii. Air Resources
* * * * * * *
Chapter 121. General Provisions
Section 121.1 | Definitions | 12/11/04 | September 29, 2006. [Insert page number where the document begins]
* * * * * * *
Chapter 129. Standards for Sources
* * * * * * *
Additional NOX Requirements
Section 129.201 | Boilers | 12/11/04 | September 29, 2006. [Insert page number where the document begins]
Section 129.202 | Stationary combustion turbines | 12/11/04 | September 29, 2006. [Insert page number where the document begins]
Section 129.203 | Stationary internal combustion engines | 12/11/04 | September 29, 2006. [Insert page number where the document begins]
Section 129.204 | Emission accountability | 12/11/04 | September 29, 2006. [Insert page number where the document begins]
Section 129.205 | Zero emission renewable energy production credit | 12/11/04 | September 29, 2006. [Insert page number where the document begins]
* * * * * * *
Chapter 145. Interstate Pollution Transport Reduction
Subchapter A.—NOX Budget Trading Program
| * * * * * * *
NOX Allowance Allocations
* * * * * * *
Section 145.42 | NOX allowance allocations | 12/11/04 | September 29, 2006. [Insert page number where the document begins] |
* * * * * * *
Subchapter B.—Emissions of NOX From Stationary Internal Combustion Engines
Section 145.111 | Applicability | 12/11/04 | September 29, 2006. [Insert page number where the document begins] | New Section.
Section 145.112 | Definitions | 12/11/04 | September 29, 2006. [Insert page number where the document begins] | New Section.
Section 145.113 | Standard Requirements | 12/11/04 | September 29, 2006. [Insert page number where the document begins] | New Section.
Subchapter C.—Emissions of NOX From Cement Manufacturing
Section 145.141 | Applicability | 12/11/04 | September 29, 2006. [Insert page number where the document begins] | New Section.
Section 145.142 | Definitions | 12/11/04 | September 29, 2006. [Insert page number where the document begins] | New Section.
Section 145.143 | Standard requirements | 12/11/04 | September 29, 2006. [Insert page number where the document begins] | New Section.
* * * * * * *

* * * * *

[FR Doc. E6-15988 Filed 9-28-06; 8:45 am]

BILLING CODE 6560-50-P